DEPARTMENT OF THE INTERIOR

UTAH RECLAMATION MITIGATION AND CONSERVATION COMMISSION

[RR04000000, XXXR0680R1, RR.17549897.2014000.02]

Office of the Assistant Secretary for Water and Science, Notice of Availability of the Environmental Assessment of the Proposed Increase in Operation, Maintenance and Replacement Activities Associated With the Wasatch County Water Efficiency Project

AGENCY: Utah Reclamation Mitigation and Conservation Commission, Central Utah Project Completion Act, Interior.

ACTION: Notice.

SUMMARY: On April 17, 2014, the Department of the Interior and the Utah Reclamation Mitigation and Conservation Commission each signed a Finding of No Significant Impact associated with the Environmental Assessment of the Proposed Increase in Operation, Maintenance and Replacement Activities Associated with the Wasatch County Water Efficiency Project. These two agencies have determined that the proposed action as detailed in the Environmental Assessment will not have a significant impact on the quality of the human environment, and that an environmental impact statement is not required.

ADDRESSES: Copies of the Environmental Assessment and Finding of No Significant Impact are available for inspection at:

• Central Utah Water Conservancy District, 355 West University Parkway, Orem, Utah 84058-7303

• Department of the Interior, Central Utah Project Completion Act Office, 302 East 1860 South, Provo, Utah 84606

• Utah Reclamation Mitigation and Conservation Commission, 230 South 500 East, Suite 230, Salt Lake City, Utah 84102

• Central Utah Water Conservancy District WCWEP Office—626 East 1200 South, Heber City, Utah 84032

The documents are also available at www.wcwepea.com, www.cuwcd.com, www.mitigationcommission.gov, and www.cupcao.gov.

FOR FURTHER INFORMATION CONTACT: Mr. Lee Baxter, Central Utah Project Completion Act Office, at (801) 379-1174; or email at lbaxter@usbr.gov.

SUPPLEMENTARY INFORMATION: The Department of the Interior, the Utah Reclamation Mitigation and Conservation Commission, and the Central Utah Water Conservancy District have completed evaluating the impacts of the proposed increase in Operation, Maintenance and Replacement activities associated with the Wasatch County Water Efficiency Project. The WCWEP Operation, Maintenance, and Replacement Proposed Action includes: Stabilizing canal banks; lining, piping, or enclosing the canals for safety and continued efficiency; improving access; and updating pump stations and regulating ponds to accommodate the changing pattern of water demand and increased urbanization.

Dated: June 9, 2014.
Reed R. Murray,
Program Director, Central Utah Project Completion Act, Department of the Interior.
Dated: June 9, 2014.
Michael C. Weland,
Executive Director, Utah Reclamation Mitigation and Conservation Commission.

[FR Doc. 2014-13843 Filed 6-12-14; 8:45 am]

BILLING CODE 4310-MN-P